FEDERAL COMMUNICATIONS COMMISSION

47 CFR Part 73

[DA 00-2324, MM Docket No. 00-201, RM-9919]

Digital Television Broadcast Service; Portsmouth, VA

AGENCY: Federal Communications Commission.

ACTION: Proposed rule.

SUMMARY: The Commission requests comments on a petition filed by Viacom Broadcasting of Seattle, Inc., licensee of station WGNT-TV, NTSC channel 27, Portsmouth, Virginia, requesting the substitution of DTV channel 50 for station WGNT-TV's assigned DTV channel 19. DTV Channel 50 can be allotted to Portsmouth, Virginia, in compliance with the principle community coverage requirements of Section 73.625(a) at reference coordinates (36-48-43 N. and 76-27-49 W.). As requested, we propose to allot DTV Channel 50 to Portsmouth with a power of 800 and a height above average terrain (HAAT) of 296 meters.

DATES: Comments must be filed on or before December 8, 2000, and reply comments on or before December 26, 2000.

ADDRESSES: Federal Communications Commission, 445 12th Street, SW., Room TW-A325, Washington, DC 20554. In addition to filing comments with the FCC, interested parties should serve the petitioner, or its counsel or consultant, as follows: Raymond A. White, Viacom Broadcasting of Seattle, Inc., c/o Paramount Stations Group, Inc., 5202 River Road, Bethesda, Maryland 20816 (Counsel for Viacom Broadcasting of Seattle, Inc.).

FOR FURTHER INFORMATION CONTACT: Pam Blumenthal, Mass Media Bureau, (202) 418-1600.

SUPPLEMENTARY INFORMATION: This is a synopsis of the Commission's Notice of Proposed Rule Making, MM Docket No. 00-201, adopted October 16, 2000, and released October 17, 2000. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-26947 Filed 10-19-00; 8:45 am]

BILLING CODE 6712-01-P